SMALL BUSINESS ADMINISTRATION

[Disaster Declaration #17119 and #17120; California Disaster Number CA-00340]

Presidential Declaration of a Major Disaster for the State of California

AGENCY: U.S. Small Business Administration.

ACTION: Notice.

SUMMARY: This is a Notice of the Presidential declaration of a major disaster for the State of California (FEMA-4610-DR), dated 08/24/2021.

Incident: Wildfires.

Incident Period: 07/14/2021 and continuing.

DATES: Issued on 08/24/2021.

Physical Loan Application Deadline Date: 10/25/2021.

Economic Injury (EIDL) Loan Application Deadline Date: 05/24/2022.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW, Suite 6050, Washington, DC 20416, (202) 205-6734.

SUPPLEMENTARY INFORMATION: Notice is hereby given that as a result of the President's major disaster declaration on 08/24/2021, applications for disaster loans may be filed at the address listed above or other locally announced locations. The following areas have been determined to be adversely affected by the disaster:

Primary Counties (Physical Damage and Economic Injury Loans): Lassen, Nevada, Placer, Plumas.

Contiguous Counties (Economic Injury Loans Only):

California: Butte, El Dorado, Modoc, Sacramento, Shasta, Sierra, Sutter, Tehama, Yuba.

Nevada: Washoe.

The Interest Rates are:

| Percent
For Physical Damage:
Homeowners with Credit Available Elsewhere | 3.250
Homeowners without Credit Available Elsewhere | 1.625
Businesses with Credit Available Elsewhere | 5.760
Businesses without Credit Available Elsewhere | 2.880
Non-Profit Organizations with Credit Available Elsewhere | 2.000
Non-Profit Organizations without Credit Available Elsewhere | 2.000
For Economic Injury:
Businesses & Small Agricultural Cooperatives without Credit Available Elsewhere | 2.880
Non-Profit Organizations without Credit Available Elsewhere | 2.000

The number assigned to this disaster for physical damage is 17119 5 and for economic injury is 17120 0.

(Catalog of Federal Domestic Assistance Number 59008)

James Rivera,
Associate Administrator for Disaster Assistance.

[FR Doc. 2021-18744 Filed 8-30-21; 8:45 am]

BILLING CODE 8026-03-P